DEPARTMENT OF THE INTERIOR

Fish and Wildlife Service

[Docket No. FWS-R7-ES-2014-0060; FF07CAMM00 FXES11130700000]

Endangered and Threatened Wildlife and Plants; Notice of Availability of Polar Bear Conservation Management Plan

AGENCY: Fish and Wildlife Service, Interior.

ACTION: Notice of document availability.

SUMMARY: We, the U.S. Fish and Wildlife Service, announce the availability of our Polar Bear Conservation Management Plan (Polar Bear Plan). The polar bear is listed as threatened under the Endangered Species Act of 1973, as amended (ESA), and is also considered “depleted” under the Marine Mammal Protection Act of 1972, as amended (MMPA). The Polar Bear Plan identifies objective, measurable ESA recovery criteria, site-specific recovery actions, as well as time and cost estimates. It also serves as an MMPA conservation plan.

ADDRESSES: An electronic copy of the Polar Bear Plan is available for viewing at https://ecos.fws.gov/ecp0/profile/speciesProfile?spcode=A0IJ or at www.regulations.gov at Docket No. FWS-R7-ES-2014-0060. Copies of the Polar Bear Plan are also available by request from the U.S. Fish and Wildlife Service, Marine Mammals Management Office, 1011 East Tudor Road, MS-341, Anchorage, AK 99503; telephone (907) 786-3800; facsimile (907) 786-3816. If you use a telecommunications device for the deaf (TDD), call the Federal Information Relay Service (FIRS) at 800-877-8339.

FOR FURTHER INFORMATION CONTACT: Hilary Cooley, Polar Bear Lead, Marine Mammals Management, by telephone at 907-786-3800; by U.S. mail at Marine Mammals Management, U.S. Fish and Wildlife Service, 1011 East Tudor Road, Anchorage, AK 99503; or by email at Hilary_Cooley@fws.gov. Persons who use a telecommunications device for the deaf (TDD) may call the Federal Relay Service at 800-877-8339.

SUPPLEMENTARY INFORMATION: We announce the availability of our Polar Bear Conservation Management Plan (Polar Bear Plan). The polar bear (Ursus maritimus) is listed throughout its range as threatened under the Endangered Species Act of 1973, as amended (16 U.S.C. 1531 et seq., ESA). Because of its threatened status under the ESA, the species is also considered “depleted” under the Marine Mammal Protection Act of 1972, as amended (16 U.S.C. 1361 et seq., MMPA). As required under the ESA section 4(f), the Polar Bear Plan identifies “objective, measurable” recovery criteria and site-specific recovery actions with estimations of the time and costs to carry out those actions. The Polar Bear Plan also serves as a conservation plan under section 115(b) of the MMPA with a goal of conserving and restoring polar bears to their optimum sustainable population level, and will contribute to our international polar bear conservation efforts under the 1973 Agreement on the Conservation of Polar Bears (T.I.A.S. No. 8409).

Background

We listed the polar bear as threatened under the ESA on May 15, 2008 (73 FR 28212). For a description of the taxonomy, distribution, status, breeding biology, and habitat, and a summary of factors affecting the species, please see Appendix A of the Polar Bear Plan. Recovery of endangered or threatened animals and plants is a primary goal of our endangered species program and the ESA. To help guide the recovery effort, we prepare recovery plans for most listed species native to the United States. Further, the ESA requires that we develop recovery plans for listed species, unless such a plan would not promote the conservation of a particular species, and that we provide public notice and an opportunity for public review and comment during recovery plan development. Recovery plans describe actions considered necessary for the conservation and survival of the species, establish criteria for delisting listed species, and estimate time and cost for implementing needed recovery measures.

MMPA Conservation Plans have the purpose of conserving and restoring a species or stock to its optimum sustainable population. The MMPA further provides that Conservation Plans shall be modeled on ESA recovery plans. Therefore, the Polar Bear Plan provides recommended management actions for the survival and recovery of the species and to conserve and restore the species to its optimum sustainable population.

To invite public review and comment on the draft Polar Bear Plan, we published a notice of availability initiating a 45-day public comment period for the draft Polar Bear Plan on July 6, 2015 (80 FR 38458); we extended that comment period an additional 30 days on August 14, 2015 (80 FR 48908). The final Polar Bear Plan and the associated documents reflect the comments and recommendations the U.S. Fish and Wildlife Service received on that draft.

Polar bears evolved to utilize the Arctic sea ice niche. They are distributed throughout most ice-covered seas of the United States, Canada, the Russian Federation, Norway, and Greenland/Denmark (collectively the Range States), in the Northern Hemisphere and are managed in 19 subpopulations around the Arctic (see Figure 1 of the Polar Bear Plan). The current global polar bear population is estimated to be 22,000 to 31,000.

Ongoing and projected loss of the polar bear's crucial sea ice habitat threatens the species throughout all of its range. The projected loss of sea ice will diminish productivity, abundance, and availability of ice seals, the polar bear's primary prey base, and increase energetic requirements of polar bears for movement and obtaining food. It will also affect access to traditional denning areas. In turn, these factors will cause declines in the condition of polar bears from nutritional stress and reduced productivity. The eventual effect of this loss of sea ice is that the polar bear population will decline. The rate and magnitude of decline will vary geographically, based on differences in the rate, timing, and magnitude of impacts. However, within the foreseeable future, the worldwide population will be affected, and the species is likely to become in danger of extinction throughout all of its range (73 FR 28292-28293, May 15, 2008). Global climate change resulting from greenhouse gas emissions is the root cause of the loss of Arctic sea ice.

The Plan

The Polar Bear Plan addresses both the MMPA and the ESA, as they relate to polar bear conservation and recovery; it also reflects the input and values of stakeholders closely connected with polar bears and their habitat, including the State of Alaska, the North Slope Borough, Alaska Native peoples, the Polar Bear Range States, conservation groups, and the oil and gas industry, as well as the general public. All of these sources informed the Polar Bear Plan's fundamental goals, which focus on conservation of polar bears while recognizing values associated with subsistence take, human safety, and economic activity. The goals will be used to guide management, research, monitoring, and communication into the future. Although the fundamental goals target three geographic scales (rangewide, intermediate (ecoregion), and subpopulation (stock)), specific actions under the Polar Bear Plan pertain primarily to the polar bear subpopulations present in Alaska. The Polar Bear Plan also contains specific recovery criteria, expressed in fundamental, demographic, and threats-based terms, to determine when the polar bear should be considered for delisting under the ESA and fundamental and demographic criteria to guide conservation efforts associated with the MMPA.

Conservation and recovery actions are specified in the Polar Bear Plan. The single most important action for the recovery of polar bears is global reduction of atmospheric greenhouse gases, which, if achieved, should result in reduced global climate change, including Arctic warming and sea ice loss. Along with communicating that fact, the Polar Bear Plan identifies a suite of high-profile actions designed to ensure that polar bears remain in sufficient number and diversity so that they are in a position to recover once climate change is addressed. Those actions include the following:

• Limit global atmospheric levels of greenhouse gases to levels appropriate for supporting polar bear recovery and conservation, primarily by reducing greenhouse gas emissions;

• Support international conservation efforts through the Range States relationships;

• Manage human-bear conflicts;

• Collaboratively manage subsistence harvest;

• Protect denning habitat;

• Minimize risks of contamination from spills;

• Conduct strategic monitoring and research.

The full cost of implementing the Polar Bear Plan over the next 5 years is approximately $66,720,000.

Authority: We developed our Polar Bear Plan under the authority of ESA section 4(f), 16 U.S.C. 1533(f), as well as section 115(b) of the MMPA, 16 U.S.C. 1383b(b). We publish this notice under ESA section 4(f) (16 U.S.C. 1531 et seq.).

Dated: December 20, 2016.
Gregory Siekaniec,
Regional Director, Alaska Region, U.S. Fish and Wildlife Service.

[FR Doc. 2017-00127 Filed 1-6-17; 8:45 am]

BILLING CODE 4333-15-P